DEPARTMENT OF TRANSPORTATION

Federal Aviation Administration

14 CFR Parts 121 and 135

[Docket No. FAA-2000-7119; Amendment No. 121-281 and 135-80]

RIN 2120-AG89

Emergency Medical Equipment; Correction

AGENCY: Federal Aviation Administration (FAA), DOT.

ACTION: Final rule; correction.

SUMMARY: This action makes three changes to clarify final rule preamble language and one change to clarify the numbering sequence of the regulatory language published in the April 12, 2001, Federal Register [66 FR 19028]. This final rule action addresses enhancements to air carrier emergency medical equipment and instruction for crewmembers.

DATES: Effective on August 22, 2001.

FOR FURTHER INFORMATION CONTACT: Judi Citrenbaum, 202-267-9689, AAM-210, Aeromedical Standards, Office of Aviation Medicine.

Correction

In the final rule, FR Doc. 01-8932, published on April 12, 2001, [66 FR 19028] make the following corrections:

1. In the preamble, on page 19028, in the third column; under “Comments Received”, line 9, remove the sentence: “These comments state that this passenger had been diagnosed with hypertrophic cardiomyopathy ¹ a few months prior to the flight and that, if an AED had been on board, it may have saved his life.”, and add, in its place, the following sentences, to read as follows: “After his death it was learned that the passenger had hypertrophic cardiomyopathy. ¹ Commenters state that, if an AED had been on board, it may have saved his life.”

2. In the preamble, on page 19029, in the second column under “FAA response”, in paragraph 3, remove the last sentence, and add, in its place, the following sentences, to read as follows: “The FAA recommends that new AED's powered by lithium batteries to be placed on an aircraft would have to comply with TSO-C142. AED's powered by batteries approved under TSO-C97 currently placed on aircraft may continue to use these earlier approved batteries until replacement when they will be required to be approved under TSO-C142.”

3. In the preamble, on page 19042, in the third column under “Regulatory Flexibility Determination”, in paragraph 2, line 9, remove the words “and more”.

4. On page 19045 remove amendatory instruction numbers “12.” and “13.” and add, in their place, “11.” and “12.”

Issued in Washington, DC on August 16, 2001.
Donald P. Byrne,
Assistant Chief Counsel, Regulations Division.

[FR Doc. 01-21165 Filed 8-21-01; 8:45 am]

BILLING CODE 4910-13-M